SOCIAL SECURITY ADMINISTRATION

[Docket No. SSA-2012-0026]

Charging Standard Administrative Fees for Nonprogram-Related Information; Correction

AGENCY: Social Security Administration.

ACTION: Notice of standard administrative fees for providing information and related services for nonprogram-related purposes; announcing addition to schedule of standardized administrative fees; Correction.

SUMMARY: The Social Security Administration published a document in the Federal Register of September 18, 2013, concerning a new fee for providing detailed and certified yearly Social Security earnings information for nonprogram-related purposes. The document contained unclear fee information and incorrect date for implementation.

FOR FURTHER INFORMATION CONTACT: Kristina Poist, 410-597-1977.

Correction

In the Federal Register of September 18, 2013, in FR Doc. 2013-22625, on page 57445, in the second column, correct the “New Information” caption to read as follows:

New Information: We are establishing a new standard, single-tier fee of $102 for each request of detailed yearly Social Security earnings information, regardless of the number of earnings years requested. We will charge a separate fee of $32 per request, in addition to the standard fee, to certify detailed yearly Social Security earnings information. We based this new standard fee on our most recent cost calculations for supplying this information and the standard fee methodology previously published in the Federal Register. Non-certified, yearly earnings totals (Form SSA-7004, Request for a Social Security Statement) are still available as a free online service through mySocialSecurity, http://socialsecurity.gov/myaccount/, a personal online account for Social Security information and services. Online Social Security Statements display uncertified yearly earnings, free of charge, and do not show any employer information. Certified yearly earnings totals cost $32, available by completing Form SSA-7050.

In the Federal Register of September 18, 2013, in FR Doc. 2013-22625, on page 57445, in the third column, correct the “Dates” caption to read:

DATES: The new standard fee of $102 is effective January 1, 2014.

Paul Kryglik,
Director, Office of Regulations and Reports Clearance.

[FR Doc. 2013-26830 Filed 11-7-13; 8:45 am]

BILLING CODE 4191-02-P